DEPARTMENT OF THE INTERIOR

National Park Service

60-Day Notice of Intention To Request Clearance of Collection of Information; Opportunity for Public Comment

AGENCY: Department of the Interior, National Park Service

ACTION: Notice and request for comments.

SUMMARY: Under the provisions of the Paperwork Reduction Act of 1995 and 5 CFR part 1320, Reporting and Record Keeping Requirements, the National Park Service (NPS) invites public comments on a proposed new collection of information (1024-xxxx).

DATES: Public comments will be accepted on or before June 25, 2007.

ADDRESSES: Send Comments To: Dr. Wayne Freimund, Department of Society and Conservation, University of Montana, Missoula, MT 59801; Phone: (406) 243-5184; Fax (406) 243-6656, e-mail: wayne.friemund@umontana.edu. Also, you may send comments to Leonard Stowe, NPS Information Collection Clearance Officer, 1849 C St., NW. (2605), Washington, DC 20240, or by e-mail at Leonard_stowe@nps.gov All responses to this notice will be summarized and included in the request for the Office of Management and Budget (OMB) approval. All comments will become a matter of public record.

To Request a Draft of Proposed Collection of Information Contact: Wayne Freimund, Department of Society and Conservation, University of Montana, Missoula, MT 59801; Phone: (406) 243-5184; e-mail: wayne.freimund@umontana.edu

FOR FURTHER INFORMATION CONTACT: Dr. Michael Patterson, Department of Society and Conservation, University of Montana, Missoula, MT 59801; Phone: (406) 243-6614; Fax (406) 243-6656; e-mail: michael.patterson@ umontana.edu. You are entitled to a copy of the entire ICR package free of charge.

SUPPLEMENTARY INFORMATION: Title: Winter Visitor Experiences in Yellowstone National Park.

Bureau Form Number: None.

OMB Number: To be requested.

Expiration Date: To be requested.

Type of Request: New collection.

Description of Need: The proposed study would provide key information for implementation of a decision on winter use planning in Yellowstone National Park. The purpose of this research is to assist Park managers in identifying efficient, salient and effective dimensions of the visitor experience for applications in monitoring efforts. Those monitoring efforts can then be tailored to the evaluation of NPS policy and management actions.

Winter use activities in the park are guided by monitoring, mitigation and adaptive management. As such, “Scientific studies and monitoring of winter visitor use and park resources (including air quality, natural soundscapes, wildlife, employee health and safety, water quality, and visitor experience) will continue. Selected areas of the parks, including sections of roads, may be closed to visitor use if studies indicate that human presence or activities have unacceptable effects on wildlife or other park resources that could not otherwise be mitigated.” (NPS Winter Use EIS, 2007 P. 32) No winter-specific social science research has been conducted since the managed winter program went into effect in 2002; this was identified as a weakness during scoping and in cooperating agency discussions. This proposed research will provide needed information by evaluating three components: (1) The role of the natural soundscape in visitor experiences, (2) visitor perceptions of human-wildlife interactions, and (3) snowcoach and snowmobile guides' perceptions of the effectiveness of the guide-only policy.

1. The Role of the Natural Soundscape in Visitor Experiences

Yellowstone National Park (YNP) has requested research into visitor experiences of natural sounds. The recent changes in winter use motorized access in YNP require snowmobiles in the park to use clean and quiet technology. These changes have led to the need to better understand the role of natural sounds in the winter visitor experience. The purpose of this study is to provide park managers with specific information on visitor perceptions of the experience of the natural soundscape and on visitor willingness to support management actions that affect the natural soundscape in Yellowstone National Park. The purpose of the interview approach for soundscape research is to obtain an in-depth understanding of visitor experiences of the natural soundscape and to better understand the context within which soundscape policies affect the visitor experience.

Previous research in Yellowstone National Park has documented the existence of differing values held among visitors for the park itself. Strong relationships between perceived park values and visitor willingness to support park management activities have been previously documented. The research proposed for the next winter use season will build on this knowledge, expanding it to include the natural soundscape resource, providing the park with information on the status of visitor perceptions of park values, visitor perceptions of the importance of natural sounds to their experience, and visitor willingness to support management actions affecting the natural soundscape. In addition to the in-depth interviews, an on-site questionnaire will be utilized for this portion of the soundscape research.

2. Visitor Perceptions of Human-Wildlife Interactions

This study seeks to provide park managers with specific information on visitor perceptions of wildlife interactions that occur in Yellowstone National Park. The recent changes in winter use policy require the snowmobile experience to be guided, which leads to different types of visitor-wildlife interactions. YNP has requested research exploring how winter visitors appraise the human-bison interactions they observe during their visit. The primary goals are to explore snowcoach and snowmobile passengers' appraisals of the human-bison interactions they witness during their visits, to analyze situational and visitor characteristics that might influence those appraisals, and to explore visitors' judgments about when consequences of winter use for bison are serious enough to warrant management intervention regulating these interactions.

3. The Effectiveness of the Guide-Only Policy in Yellowstone National Park: The Perspective of Snowcoach and Snowmobile Guides

Recent winter use plans at Yellowstone National Park have required that each snowmobile comply with best available technology, that all groups be guided, and that the total number of daily winter visitors be capped. These restrictions were implemented to reduce impacts to wildlife, improve compliance with winter use rules, reduce visitor conflict, and address visitor carrying capacity. This study will look at the effectiveness of these managerial interventions through the eyes of the professional guides. Many guides have been working in the park on a daily basis for years; thus, they offer a unique perspective on how the conditions in the park have changed and what seems to be working best within the new winter use system. Interviews, to be conducted during the winter use season, will rely on an open-ended, in-depth process.

Comments are invited on: (1) The practical utility of the information being gathered; (2) the accuracy of the burden hour estimate; (3) ways to enhance the quality, utility, and clarity of the information to be collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

Automated data collection: This information will be collected via in-person interviews and surveys. No automated data collection will take place.

Description of respondents: Components 1 and 2: Visitors stopping at the Old Faithful Snow Lodge and Old Faithful Geyser on 20 days during the 2007-2008 winter use season. Component 3: Snowmobile and snowcoach guides in Yellowstone National Park.

Estimated average number of respondents: Component 1: 165 (120 respondents for on-site survey; 45 respondents for interviews). Component 2: 400. Component 3: 30.

Estimated average number of responses: Component 1: 165 (120 respondents for on-site survey; 45 respondents for interviews). Component 2: 400. Component 3: 30.

Estimated average burden hours per response: Component 1: 25 minutes for on-site survey respondents; 30 minutes for interview respondents. Component 2: 25 minutes. Component 3: 33 minutes.

Frequency of Response: 1 time per respondent.

Estimated annual reporting burden: 256 hours.

Dated: April 16, 2007.
Leonard E. Stowe,
NPS, Information Collection Clearance Officer.

[FR Doc. 07-2019 Filed 4-23-07; 8:45 am]

BILLING CODE 4312-CT-M